NATIONAL ARCHIVES AND RECORDS ADMINISTRATION

[NARA-2015-021]

Office of Presidential Libraries; Disposal of Presidential Records

AGENCY: National Archives and Records Administration (NARA).

ACTION: Presidential Records Act notice of proposed disposal of Reagan and George H.W. Bush administration disaster recovery backup tapes; request for public comment.

SUMMARY: NARA has identified several collections of disaster recovery backup tapes, and subsequently-created preservation copies, from the Ronald Reagan and George H.W. Bush (GHW Bush) administrations, maintained for the Professional/Office Vision software (PROFS), the Sperry/VAX All-in-One (All-in-One), and for systems maintained by the White House Situation Support Staff (WHSSS) and the White House Situation Room (WHSR), as appropriate for disposal under the Presidential Records Act, 44 U.S.C. 2203(g)(3). This notice describes our reasons for determining that further retention of these disaster recovery backup tapes is not warranted. Because the administrations made these backup tapes for disaster recovery purposes, all required backup restoration projects have taken place, and NARA is preserving the restored records, we have identified no further need to preserve and maintain these backup tapes. Accordingly, we are following a disposal procedure similar to that in General Records Schedule (GRS) 24 for the routine disposal of backup tapes used by Federal agencies.

This notice does not constitute a final agency action, as described in 44 U.S.C. 2203(g)(3), and no Presidential records will be disposed of following this notice. NARA will publish a second notice only after we have considered any comments received following this 45-day notice period. If NARA proceeds with disposal, we will publish a second notice, with a 60-day notice period, that will constitute a final agency action.

DATES: Please submit any comments by March 23, 2015 for NARA's consideration.

ADDRESSES: Comments regarding the proposed disposal of these Presidential records must be sent in writing to Susan K. Donius, by mail to National Archives and Records Administration, Suite 2200; 8601 Adelphi Road; College Park, MD 20740-6001; by fax to 301-837-3199; or by email to beth.fidler@nara.gov.

FOR FURTHER INFORMATION CONTACT: Director of Presidential Libraries Susan K. Donius, by telephone at 301-837-3250; or by email at beth.fidler@nara.gov.

SUPPLEMENTARY INFORMATION: NARA proposes to dispose of 3,071 original disaster recovery backup tapes created during the Reagan and GHW Bush administrations, along with subsequent preservation copies of those media. A Stipulation and Order entered in the case of Armstrong v. Executive Office of the President, Civ. No. 89-0142 (D.D.C.), on January 27, 1994, allows NARA to dispose of preserved disaster recovery backup tapes from the Reagan and GHW Bush administrations, provided that NARA issues a public notice in the Federal Register. On June 28, 2013, NARA published a Federal Register notice proposing the disposal of over 22,000 unclassified backup tapes from the Reagan and GHW Bush administrations that were used to restore emails and related records pursuant to court orders entered in the Armstrong case. NARA received no comments concerning that proposed disposal.

Similarly, NARA now proposes to dispose of 3,039 classified backup tapes from the Reagan and GHW Bush administrations that were transferred to NARA at the end of the GHW Bush administration in 1993 and were used to restore emails and related records pursuant to the Armstrong case, along with 32 additional unclassified Armstrong backup tapes. NARA will permanently retain the restored Presidential and Federal records from these media, including PROFS notes, documents, and calendars, as well as email and cables from the All-in-One electronic system and the WHSSS and the WHSR electronic systems, on different electronic media.

Details About the Records

These backups were maintained for the PROFS, the All-in-One, and on systems maintained by WHSSS and WHSR. Four White House entities maintained these backups—the White House Communications Agency (WHCA), WHSSS, and WHSR, on behalf of the National Security Council (NSC), and the Office of Administration (OA) on behalf of components of the Executive Office of the President.

These tapes include 3,039 original classified backup tapes originally preserved under court orders entered in the Armstrong case and transferred to NARA at the end of the GHW Bush administration in 1993. These backup tapes were created by WHCA and WHSSS staff, on behalf of the NSC, during the Reagan and GHW Bush administrations, and by WHSR staff during the Bush administration. The original backup media consist of a variety of formats, including, but not limited to, open-reel tapes, 3480-class cartridge tapes, hard drives, 8mm tapes, 4mm tapes, DEC cartridges, removable disc packs, and a floppy disk. During the Clinton administration, WHCA, WHSSS, and WHSR administrative staff, on behalf of the NSC, conducted tape restoration projects to restore records from these backup tapes. All of these backup media have been duplicated in two or more preservation copy sets (not necessarily using the same media) created subsequently. NARA will permanently retain the restored Presidential and Federal records from these media, including PROFS notes, documents, and calendars, as well as email and cables from the All-in-One electronic system and the WHSSS and WHSR electronic systems, in an electronic format as part of the permanent record collections of the Reagan and GHW Bush administrations.

Tape Restoration Projects and Retained Records

During the Reagan and GHW Bush administrations, NSC staff conducted business using two electronic communication systems. The first system was known as PROFS, which was an IBM proprietary office management tool available to NSC staff and supported by WHCA. WHCA captured stored electronic information on open reel tapes, created to sustain disaster recovery ability, during scheduled backup periods. During the Clinton administration, WHCA used copies of PROFS system backup tapes to conduct a tape restoration project (WHCA TRP) of all PROFS notes, documents, calendars, and other partial or residual data on the tapes from the Reagan and GHW Bush administrations, in response to stipulations and orders entered in the Armstrong case. We will continue to retain these restored records.

The second system used by NSC staff during the Reagan administration, and increasingly during the GHW Bush administration, was the All-in-One system, which also allowed for transmission of electronic mail, calendars, and cables. The All-in-One system maintained by WHCA and WHSSS was connected to the IBM PROFS system so that mail could be sent and received between NSC staff. After September 1992, WHSR staff began using a new system for electronic mail (CCMail) instead of All-in-One.

WHSSS staff conducted a second tape restoration project (WHSSS TRP) on the backup media from each of the above systems, also in response to stipulations and orders entered in the Armstrong case. From the Reagan administration, all WHCA All-in-One email and cables, and WHSSS All-in-One email, calendars, and cables, were restored as part of the WHSSS TRP. From the GHW Bush administration, all WHCA All-in-One email, calendars, and cables, WHSSS All-in-One email, calendars, and cables, and WHSR CCMail email, calendars, and cables, were restored as part of the WHSSS TRP. We will continue to retain these records.

The records restored pursuant to the WHCA and WHSSS TRPs are currently classified and are otherwise subject to access restrictions imposed by the Presidential Records Act (44 U.S.C. 2204(a)). NARA will be able to respond to future access requests for the PROFS notes, documents, and calendars, as well as All-in-One and CCMail electronic mail, calendars, and cables. In light of the extensive past restoration efforts to obtain these records, we believe the original backup media and subsequent preservation copies do not warrant permanent retention and are disposable.

Staff in OA conducted a third tape restoration project to restore unclassified Reagan-era PROFS notes, documents, and calendars residing on OA's separate unclassified PROFS system for components of the Executive Office of the President, also in response to stipulations and orders entered in the Armstrong case. NARA now proposes to dispose of 32 unclassified open-reel backup tapes created during the Reagan administration and used by OA staff for this third TRP. OA created separate sets of output tapes, labeled the “Presidential Tape Set,” and the “Federal Tape Set,” containing PROFS notes, documents, and calendars covered under the Presidential Records Act and the Federal Records Act, respectively. We will continue to retain these records. In light of OA's restoration efforts, we believe that these 32 original backup media and subsequent preservation copies also do not warrant permanent retention and are disposable.

Dated: January 30, 2015.
Susan K. Donius,
Director, Office of Presidential Libraries.

[FR Doc. 2015-02454 Filed 2-5-15; 8:45 am]

BILLING CODE 7515-01-P